Proclamation 7883 of April 5, 2005

National D.A.R.E. Day, 2005

By the President of the United States of America

A Proclamation

Across America, law enforcement officers, volunteers, parents, and teachers are helping to send the right message to our Nation's youth about illegal drugs and violence through the Drug Abuse Resistance Education (D.A.R.E.) Program. On National D.A.R.E. Day, we express our gratitude for the important work of these individuals and reaffirm our commitment to ensuring that every child has an opportunity for a bright and hopeful future.

For over two decades, D.A.R.E. programs have taught our Nation's young people about the dangers of drug use and encouraged them to lead productive, drug-free, and violence-free lives. Police officers and all those involved in D.A.R.E. help save lives by opening the lines of communication between law enforcement and our young people to better enable them to make the right choices. In a culture in which bad influences and temptations are all too present, these soldiers in the armies of compassion are fostering a culture of responsibility among young people.

My Administration will continue to stand with families and communities to combat the dangers of drugs and violence. In my State of the Union Address, I announced a new initiative called Helping America's Youth to help ensure a successful future for young Americans. Led by First Lady Laura Bush, this initiative is educating parents and communities on the importance of positive youth development and is supporting organizations, including faith-based and community groups, who are helping young people to overcome the risks they face. We also support random student drug testing as a prevention tool, and we are helping educate young people about the dangers of illicit drug use through the National Youth Anti-Drug Media Campaign and Drug-Free Communities Program.

The decisions our children make today will affect their health and character for the rest of their lives. By giving them the tools they need to make the right choices, D.A.R.E. programs help prepare our Nation's young people for the promising future our Nation holds for each of them.

NOW, THEREFORE, I, GEORGE W. BUSH, President of the United States of America, by virtue of the authority vested in me by the Constitution and laws of the United States, do hereby proclaim April 14, 2005, as National D.A.R.E. Day. I call upon Americans, particularly our youth, to help fight drug use in our communities, and I urge our citizens to show their appreciation for the law enforcement officials, volunteers, teachers, health care professionals, and all those who dedicate themselves to helping our children avoid drugs and violence.

IN WITNESS WHEREOF, I have hereunto set my hand this fifth day of April, in the year of our Lord two thousand five, and of the Independence of the United States of America the two hundred and twenty-ninth.

B

[FR Doc. 05-7140

Filed 4-6-05; 8:54 am]

Billing code 3195-01-P